SMALL BUSINESS ADMINISTRATION

Privacy Act of 1974; System of Records; Correction

AGENCY: U.S. Small Business Administration.

ACTION: Notice of a New System of Records; correction.

SUMMARY: The U. S. Small Business Administration published a document in the Federal Register of September 5th, 2019, regarding Notice of a New System of Records, Small Business Investment Company Information System (SBICIS), SORN #40. The document contained an incorrect effective date.

FOR FURTHER INFORMATION CONTACT: David Trzcinski, Branch Chief, Security Policy & Compliance, 202-205-6372, David.Trzcinski@sba.gov.

SUPPLEMENTARY INFORMATION:

Correction

In the Federal Register of September 5, 2019, in FR Doc. 2019-19153, on page 46769, in the second column, correct the DATES caption to read:

DATES: This action will be effective without further notice on October 7th, 2019 unless comments are received that would result in a contrary determination.

Dated: September 6, 2019.
Jason Lima,
Senior Records Manager, Records Management Division.

[FR Doc. 2019-19736 Filed 9-11-19; 8:45 am]

BILLING CODE 8026-03-P